DEPARTMENT OF HOMELAND SECURITY

Coast Guard

[CGD05-05-016]

Notice of Waterways Analysis and Management Systems Studies, Upper Chesapeake Bay, Including the Chesapeake and Delaware Canal

AGENCY: Coast Guard, DHS.

ACTION: Notice of studies with request for comments.

SUMMARY: The Coast Guard announces that Waterways Analysis and Management System (WAMS) studies are being planned for the Upper Chesapeake Bay, including the Chesapeake and Delaware Canal. The Coast Guard solicits comments on the specific waterways presented in this document so we can complete our WAMS studies. The goals of the studies are to analyze the waterway and aids to navigation, and then develop a plan to address any proposed changes and concerns.

DATES: Comments and related material must reach U.S. Coast Guard Sector Baltimore on or before May 31, 2005.

ADDRESSES: To make sure your comments and related material are not entered more than once in the docket [CGD05-05-016], please submit them by only one of the following means:

(1) On-line Survey link is available at web site: http://www.uscg.mil/d5/sector/sectbalt/index.htm.

(2) Mail: Commander, U.S. Coast Guard Sector Baltimore, 2401 Hawkins Point Road, Baltimore, MD 21226-1791, Attn: WAMS Project.

(3) Fax: 410-576-2553.

(4) Hand delivery: Room 208 of Building 70 on the Coast Guard Yard Curtis Bay, 2401 Hawkins Point Road, Baltimore, MD, between 9 a.m. and 3 p.m., Monday through Friday, except Federal holidays. The telephone number is 410-576-2674.

(5) Electronic mail: rlhouck@actbalt.uscg.mil.

FOR FURTHER INFORMATION CONTACT: If you have questions on this notice, or if you have questions on viewing or submitting material to the docket, call Mr. Ronald Houck, Coast Guard Sector Baltimore, Waterways Management Division, at telephone 410-576-2674.

SUPPLEMENTARY INFORMATION:

Request for Comments

We encourage you to participate in this study by submitting comments and related material. If you do so, please include your name and address, identify the docket number [CGD05-05-016] for this notice, indicate the specific section of this document to which each comment applies, and give the reason for each comment. You may submit your comments and related material by mail, hand delivery, fax, or electronic means to the WAMS Project at the address under ADDRESSES; but please submit your comments and material by only one means. If you submit them by mail or hand delivery, submit them in an unbound format, no larger than 8½ by 11 inches, suitable for copying and electronic filing. If you submit them by mail and would like to know they reached the WAMS Project, please enclose a stamped, self-addressed postcard or envelope. We will consider all comments and related material received during the comment period.

Background and Purpose

In order to facilitate safe navigation and to prevent disasters, collisions, and wrecks of vessels, the Coast Guard may establish, maintain, and operate aids to navigation required to serve the needs of the Armed Forces or of the commerce of the United States (14 U.S.C. 81). It is through its Waterways Analysis and Management System (WAMS) process, that the Coast Guard manages aids to navigation in navigable waters of the U.S. WAMS studies, therefore, are intended to ensure that existing aids to navigation systems support safe marine navigation and the effective and efficient flow of waterborne commerce. A key aspect of a WAMS study is the consideration of the needs and input of waterway users (such as commercial interests, pilots, port authorities, military commands and other Federal agencies, State and local agencies, recreational boating organizations, and other interested groups) and non-user sources (such as waterfront facilities, homeowners or community associations, and political groups). Such valued input to these important studies is highly encouraged and should reflect conditions experienced by waterway users during daytime, nighttime and reduced visibility, in addition to any navigational hazards experienced by vessel operators.

The following specific waterways will be analyzed, as follows:

(1) Brewerton Channel, Fort McHenry Channel, Canton Elevator and Coal Channel, Hawkins Point Channel, Coal Pier Channel, Locust Point East and West Channels, Craighill Channel, Marine Pier Channel, Curtis Bay Channel, Northwest Harbor, Curtis Creek, Pennwood Channel, Dundalk East and West Channels, Port Covington Basin, Elevator Channel, Seagirt East and West Channels, Ferry Bar Channel, and Sparrows Point Steel Works Channel.

(2) Chesapeake Channel (middle Chesapeake Bay).

(3) Potomac River, Upper Potomac River, Anacostia River, Hains Point (Washington) Channel and Alexandria Channel.

(4) Choptank River to Cambridge, Cambridge Channel, Nanticoke River, Wicomico River, Pocomoke River, Pocomoke Sound and Tangier Sound.

(5) Brewerton Channel East Extension, Upper Chesapeake Channel, Upper Chesapeake Bay, Elk River, Back Creek and the Chesapeake & Delaware Canal.

As part of these studies, we will consider previous WAMS studies. It is possible that the studies may validate continued applicability of existing aids to navigation and conclude that no changes are necessary. It is also possible that the studies may recommend changes to enhance marine navigational safety, effectiveness and efficiency.

Dated: March 22, 2005.
Curtis A. Springer,
Captain, U.S. Coast Guard, Commander, U.S. Coast Guard Sector Baltimore, Baltimore, Maryland.

[FR Doc. 05-6391 Filed 3-30-05; 8:45 am]

BILLING CODE 4910-15-P